ENVIRONMENTAL PROTECTION AGENCY

[FRL-7260-2]

ISCMEM Interagency Steering Committee on Multimedia Environmental Modeling; Notice of Public Meeting

AGENCY: Environmental Protection Agency (EPA).

ACTION: Notice.

SUMMARY: The annual public meeting of the Federal Interagency Steering Committee on Multimedia Environmental Modeling (ISCMEM) will convene to review progress by the working groups and to discuss initiatives for FY 2003.

DATES: September 12, 2002, 9:30 a.m. to 4 p.m.

ADDRESSES: U.S. Department of Agriculture (USDA) (Thomas Jefferson Auditorium), 1400 Independence Avenue SW, Washington, DC.

FOR FURTHER INFORMATION CONTACT: Designated Federal Official: Gary J. Foley, 919-541-2106; General Information: Dave Brown, 706-355-8300.

SUPPLEMENTARY INFORMATION:

Background

On July 5, 2001, six Federal agencies entered into a Memorandum of Understanding (MOU) on research and development of multimedia environmental models. The MOU establishes a framework for facilitating cooperation and coordination among the following agencies (the specific research organization within the agency is in parenthesis): U.S. Army Corps of Engineers (Engineer Research and Development Center); U.S. Department of Agriculture (Agricultural Research Service); U.S. Department of Energy (Office of Science and Technology); U.S. Environmental Protection Agency (Office of Research and Development); U.S. Geological Survey; and U.S. Nuclear Regulatory Commission (Office of Nuclear Regulatory Research) in research and development (R&D) of multimedia environmental models, software and related databases, including development, enhancements, applications and assessments of site-specific, generic, and process-oriented multimedia environmental models as they pertain to human and environmental health risk assessment. Specifically, the MOU supports the exchange of technical information through data bases, information systems, clearinghouses, conferences, workshops, activities for developing a common model-data framework, collaboration on scientific projects supporting the modeling framework, and other means pertaining to multimedia model development, enhancements and applications focusing on environmental risk assessments.

Goals of the MOU

Provide a mechanism for the cooperating Federal Agencies to pursue a common technology in multimedia environmental modeling with a shared scientific basis; Reduce redundancies and improve the common technology through exchange and comparisons of multimedia environmental models, software and related databases; Seek mutual benefit from their respective R&D programs related to multimedia environmental model development and enhancement activities, and to ensure effective exchange of information between their technical staff and contractors; Facilitate the establishment of working partnerships among the cooperating Federal Agencies' technical staff and designated contractors in order to enhance productivity and mutual benefit through collaboration on mutually-defined research studies such as the development of a common model-data framework; Develop high-quality research and modeling products and commit to following established quality assurance (QA) and quality control (QC) procedures.

Focus of the MOU

Exchange of information related to multimedia environmental modeling tools and supporting scientific information for environmental risk assessments, protocols for establishing linkages between disparate databases and models, and development and use of a common model-data framework; Research and development programs include development and field applications of a wide variety of software modules, data processing tools, and uncertainty assessment approaches for understanding and predicting contaminant transport processes including the impact of chemical and non-chemical stressors on human and ecological health.

Public Meeting Purpose

The annual public meeting provides an opportunity for the scientific community, other Federal and State agencies, and the public to be briefed on the progress of the MOU working groups and their initiatives for the upcoming year, and to discuss technological advancements in multimedia environmental modeling. Copies of the agenda are available upon request to Dr. Dave Brown, U.S. Environmental Protection Agency, National Exposure Research Laboratory, Ecosystems Research Division, 960 College Station Road, Athens, Georgia 30605-2720; telephone number: (706) 355-8300; fax number: (706) 355-8302; e-mail address: brown.dave@epa.gov.

Meeting Synopsis

The tentative agenda is for the ISCMEM Chair to report on two initiatives: progress on establishing Web sites for technology transfer; and new participating Federal agencies. The four MOU working groups: Software System Design and Implementation; Uncertainty and Parameter Estimation; Modeling Reactive Transport; and Watershed Modeling will report on their progress during the year. A series of three technical presentations will focus on: “Modeling Frameworks—G.I.S. Integration” be presented by Olaf David, PhD., Research Scientist, Colorado State University/Agricultural Research Service, USDA, Fort Collins, CO; “Multi-Objective Parameter Estimation and Uncertainty Analysis for Watershed Modeling” to be presented by Steve Markstrom, U.S. Geological Survey in Denver, CO; and “Object Modeling System ¹ (OMS) Implementation Implications for Technology Transfer and E-Government” to be presented by Jack Carlson, Director, Information Technology Center, Natural Resources Conservation Service, USDA, Fort Collins, CO.

¹ Object Modeling System information can be viewed at: http://xml.gov/efforts/oms.htm.

Access

The USDA Jefferson Auditorium is located on the first floor of the South Agriculture Building at 1400 Independence Avenue SW, Washington, DC between the fourth and fifth wings. To access the Jefferson Auditorium, please use the fourth wing entrance on Independence Avenue. The most convenient transportation to the meeting venue is via Metro. Please take Metro to the Smithsonian stop on the Blue or Orange Lines, exit via the Independence Avenue escalator, proceed west on Independence Avenue to the South Agriculture Building and enter through the wing 4 which is the visitors entrance. Please inform the security personnel that you are attending the public meeting on multimedia modeling in the Jefferson Auditorium.

Dated: August 9, 2002.
David S. Brown,
Chief, Regulatory Support Branch.

[FR Doc. 02-20871 Filed 8-15-02; 8:45 am]

BILLING CODE 6560-50-P